DEPARTMENT OF TRANSPORTATION

Pipeline and Hazardous Materials Safety Administration

49 CFR Parts 192 and 195

[Docket No. PHMSA-2008-0334]

RIN 2137-AE42

Pipeline Safety: Incorporation by Reference Update: American Petroleum Institute (API) Standards 5L and 1104

AGENCY: Pipeline and Hazardous Materials Safety Administration (PHMSA), Department of Transportation (DOT).

ACTION: Direct final rule; confirmation of effective date.

SUMMARY: The Pipeline and Hazardous Materials Safety Administration (PHMSA) is confirming the effective date of April 14, 2009, for the direct final rule that appeared in the Federal Register on April 14, 2009. The direct final rule incorporated by reference the most recent editions of API Specification 5L, “Specification for Line Pipe” and API 1104, “Welding of Pipelines and Related Facilities.”

DATES: The effective date for the direct final rule that appeared in the Federal Register on April 14, 2009 (74 FR 17099) is confirmed as April 14, 2009.

FOR FURTHER INFORMATION CONTACT: For information about the technical standards, contact Mike Israni, (202) 366-4571, or by e-mail at mike.israni@dot.gov. For all other information contact John Gale by phone at (202) 366-4046.

SUPPLEMENTARY INFORMATION:

I. Background

In the Federal Register of April 14, 2009, PHMSA published a direct final rule adopting the most recent editions of two consensus technical standards, the American Petroleum Institute (API) 5L (44th edition) and API 1104 (20th edition). Through use of these consensus standards, pipeline operators will be able to use current technology, materials, and practices. The incorporation of the most recent editions of these standards improves clarity, consistency, and accuracy, reduces unnecessary burdens on the regulated community and will provide, at minimum, an equivalent level of safety. PHMSA did not eliminate the use of the current referenced standards but simply allowed the additional use of these new standards. PHMSA may in the future propose to eliminate the incorporation of the existing referenced standards.

Standards Incorporated by Reference

The National Technology Transfer and Advancement Act of 1995 (Pub. L. 104-113) directs Federal agencies to use voluntary consensus standards in lieu of government-written standards whenever possible. Voluntary consensus standards are standards developed or adopted by voluntary bodies that develop, establish, or coordinate technical standards using agreed upon procedures.

PHMSA's Office of Pipeline Safety participates in more than 25 national voluntary consensus standards committees. PHMSA's policy is to adopt voluntary consensus standards when they are applicable to pipeline design, construction, maintenance, inspection, and repair. PHMSA has the ultimate responsibility to ensure the best interests of public safety are being served. PHMSA reviews and approves for incorporation by reference updated versions based on this directive. When PHMSA believes some aspect of the standard does not meet this directive, it will not incorporate the new edition, or that part of the standard that it believes is contradictory with the directive. In recent years, PHMSA has adopted dozens of new and revised voluntary consensus standards into its gas pipeline (49 CFR Part 192) regulations, its liquefied natural gas (LNG) (49 CFR Part 193) regulations, and its hazardous liquid pipeline (49 CFR Part 195) regulations.

Parts 192, 193, and 195 incorporate by reference all or parts of more than 60 standards and specifications developed and published by technical organizations, including the American Petroleum Institute, American Gas Association, American Society of Civil Engineers, American Society of Mechanical Engineers, American Society for Testing and Materials, Manufacturers Standardization Society of the Valve and Fittings Industry, National Fire Protection Association, Plastics Pipe Institute, and Pipeline Research Council International. These organizations update and revise their published standards every 3 to 5 years to reflect modern technology and best technical practices. PHMSA has reviewed the revised voluntary consensus standards being incorporated in this final rule.

New Editions of Standards

The following new editions of currently referenced standards are being incorporated by reference (IBR) in parts 192 and 195. These new editions refine, and clarify existing material in the standard and generally do not introduce new topics.

American Petroleum Institute (API)

•ANSI/API Spec 5L/ISO 3183 “Specification for Line Pipe” (44th edition, 2007) Referenced by 49 CFR 192.55(e); 192.112; 192.113; Item I, Appendix B to part 192; 195.106(b)(1)(i); 195.106(e).

Amendments to API 5L in the 44th edition include:

1. High default toughness criteria for PSL 2 pipe previously not specified, ensuring a higher toughness baseline for most critical products in the field.

2. Restrictive dimensional limits (including wall thickness, diameter, out-of-round, pipe end geometric irregularities) ensuring better field fit up and welding.

3. More comprehensive description of ultrasonic and radiographic methods and documentation testing providing a more consistent weld and body inspection and pipe traceability is improved through key inspection step.

4. New sour service and offshore requirements including restrictive documentation, processing, chemical composition, inspection and mechanical property controls ensuring well suited product applied to these critical applications.

• API 1104 “Welding of Pipelines and Related Facilities,” (20th edition, errata, 2008) Referenced in 49 CFR 192.227(a); 192.229(c)(1); and 192.241(c); Item II, Appendix B; 195.222; 195.228(b) and 195.214(a).

The 20th edition of API 1104 includes a new Appendix A. Appendix A describes the method to determine the maximum height and length of a weld imperfection that can remain in a girth weld and not be a threat to the integrity of a pipeline. Appendix A in the 19th edition is an old standard that was developed in the 1970's and at that time X 60 material was the strongest pipe available. Now X 80 is commonplace.

By letters dated September 26, 2008 and December 4, 2008, EVRAZ, Inc. and California Steel Industries, Inc., petitioned PHMSA to allow the immediate use of the 44th edition of API 5L. The petitioners explained that the failure to allow the use of the newer standard would adversely impact the metallurgy and tolerances of the pipe manufactured in their plants and that the impact was industry-wide. Due to the lead time of ordering steel pipe for major infrastructure projects, the petitioners urgently requested that PHMSA allow the use of the newer standard in order to avoid adverse impacts on their customers' projects involving thousands of tons of pipe and hundreds of workers.

The direct final rule was issued under the procedures set forth in 49 CFR 190.339. That provision allows for incorporation by reference of industry standards by direct final rule. If an adverse comment or notice of intent to file an adverse comment is received, a timely document would be published in the Federal Register withdrawing this direct final rule in whole or in part. PHMSA did not receive any adverse comments.

Issued in Washington, DC, on June 22, 2009 under the authority delegated in part 1.
Jeffrey D. Wiese,
Acting Deputy Administrator.

[FR Doc. E9-15045 Filed 6-25-09; 8:45 am]

BILLING CODE 4910-60-P